COMMITTEE FOR PURCHASE FROM PEOPLE WHO ARE BLIND OR SEVERELY DISABLED

Procurement List; Deletions

AGENCY: Committee for Purchase From People Who Are Blind or Severely Disabled.

ACTION: Deletions from the Procurement List.

SUMMARY: This action deletes products and a service from the Procurement List that were furnished by nonprofit agencies employing persons who are blind or have other severe disabilities.

DATES: Date deleted from the Procurement List: January 5, 2020.

ADDRESSES: Committee for Purchase From People Who Are Blind or Severely Disabled, 1401 S Clark Street, Suite 715, Arlington, Virginia 22202-4149.

FOR FURTHER INFORMATION CONTACT: Michael R. Jurkowski, Telephone: (703) 603-2117, Fax: (703) 603-0655, or email CMTEFedReg@AbilityOne.gov.

SUPPLEMENTARY INFORMATION:

Deletions

On 10/18/2019, 11/1/2019 and 11/8/2019, the Committee for Purchase From People Who Are Blind or Severely Disabled published notice of proposed deletions from the Procurement List. After consideration of the relevant matter presented, the Committee has determined that the products and service listed below are no longer suitable for procurement by the Federal Government under 41 U.S.C. 8501-8506 and 41 CFR 51-2.4.

Regulatory Flexibility Act Certification

I certify that the following action will not have a significant impact on a substantial number of small entities. The major factors considered for this certification were:

1. The action will not result in additional reporting, recordkeeping or other compliance requirements for small entities.

2. The action may result in authorizing small entities to furnish the products and service to the Government.

3. There are no known regulatory alternatives which would accomplish the objectives of the Javits-Wagner-O'Day Act (41 U.S.C. 8501-8506) in connection with the products and service deleted from the Procurement List.

End of Certification

Accordingly, the following products and service are deleted from the Procurement List:

Products

NSN(s)—Product Name(s):

MR 10678—Berry Colander, Includes Shipper 20678

MR 10734—Socks, Halloween, Includes Shipper 20734

MR 10760—Activity Pack, Licensed, Pokemon, Includes Shipper 20760

MR 10761—Sticker Pack, Licensed, Pokemon, Includes Shipper 20760

MR 10762—Pen, Licensed, Pokemon, Includes Shipper 20762

MR 10763—Kid's Baking Tools, Licensed, Whisk and Spoon, Includes Shipper 20763

MR 10764—Kid's Baking Tools, Licensed, Turner and Spatula, Includes Shipper 20763

MR 10765—Kid's Baking Tools, Licensed, Rolling Pin and Cookie Cutters, Includes Shipper 20763

MR 10766—Kid's Baking Tools, Licensed, Decorating Set, Includes Shipper 20763

MR 10772—Tumblers, Striped, Includes Shipper 20772

MR 10773—Water Bottle, Includes Shipper 20773

MR 11101—Paper, Parchment, Includes Shipper 21101

MR 13112—Cookie Sheet, Small, 9” x 13”

Mandatory Source of Supply: Winston-Salem Industries for the Blind, Inc., Winston-Salem, NC

Contracting Activity: Military Resale-Defense Commissary Agency

NSN(s)—Product Name(s):

1560-01-153-9682—Wear Strip, Cargo Door, Sikorsky Helicopter Models S-70I & UH-60M

Mandatory Source of Supply: The Lighthouse for the Blind, Inc. (Seattle Lighthouse), Seattle, WA

Contracting Activity: DLA AVIATION, RICHMOND, VA

Services

Service Type: Administrative Services

Mandatory for: GSA, Sacramento PBS: Sacramento Field Office, Sacramento, CA

Mandatory Source of Supply: Crossroads Building Services, Inc.—Deleted, Sacramento, CA

Contracting Activity: GENERAL SERVICES ADMINISTRATION, FPDS AGENCY COORDINATOR

Patricia Briscoe,
Deputy Director, Business Operations (Pricing and Information Management).

[FR Doc. 2019-26321 Filed 12-5-19; 8:45 am]

BILLING CODE 6353-01-P